Title 3—

The President

Proclamation 10856 of November 8, 2024

World Freedom Day, 2024

By the President of the United States of America

A Proclamation

Today marks 35 years since the Berlin Wall came down. Its fall was one of the greatest advances in human dignity in my lifetime. As we celebrate this anniversary, may we all remember that what brought the Berlin Wall down and lifted the Iron Curtain is what keeps the flame of liberty shining bright around the world: the determination of free people everywhere who never fail to stand up for their freedoms and their democracy.

I still remember when, as a young Senator, I visited West Berlin and saw what it meant to live in a divided city, country, and continent. Then, in 1989, along with millions of people around the world, I watched the 70,000 brave souls gathered in Leipzig, Germany, crying out for freedom. After the wall came down, some feared the reunification of Germany would revive old hatreds and rivalries, but leaders of America and Germany dreamed together of a much better future. The achievement of a Germany whole and free lives on, exceeding everyone's expectations, and the dream of Europe whole and free remains the work of our time. My Administration is committed to pushing back against Putin's vicious attack on Ukraine. It is another battle in the long struggle for freedom and against aggression and tyranny.

Together with our partners and allies, the United States is continuing to fight for the freedom and rights of people around the world. We are working to build a future where women and girls share equal rights and opportunities in their communities; where Indigenous groups, people with disabilities, and racial, ethnic, and religious minorities live free from discrimination; and where LGBTQI+ people can live lives free from fear and hate. And we must all stay committed to supporting democracy around the world—and at home. I call on the American people to stand up in defense of our democracy because every generation must do the work of defending, protecting, and safeguarding it.

The future will be won by those who unleash the full potential of their people to breathe and think freely, innovate and educate daringly, and live and love openly and without fear. That is the soul of democracy—and I have seen it all around the world, from the brave men and women who brought down the Berlin Wall to the people who are fighting in every region for freedom, justice, and dignity. Today, may we strengthen our commitment to our democracy and to one another, knowing that the darkness that drives autocracy is no match for the flame of liberty that lights the souls of free people everywhere.

NOW, THEREFORE, I, JOSEPH R. BIDEN JR., President of the United States of America, by virtue of the authority vested in me by the Constitution and the laws of the United States, do hereby proclaim November 9, 2024, as World Freedom Day. I call upon the people of the United States of America to remember the hope symbolized by the fall of the Berlin Wall and reaffirm our dedication to freedom and democracy.

IN WITNESS WHEREOF, I have hereunto set my hand this eighth day of November, in the year of our Lord two thousand twenty-four, and of the Independence of the United States of America the two hundred and forty-ninth.

[FR Doc. 2024-26702

Filed 11-13-24; 8:45 am]

Billing code 3395-F4-P